DEPARTMENT OF HOMELAND SECURITY

Coast Guard

33 CFR Part 117

[Docket No. USCG-2013-0719]

Drawbridge Operation Regulations; Townsend Gut, Boothbay Harbor and Southport, ME

AGENCY: Coast Guard, DHS.

ACTION: Notice of temporary deviation from regulations.

SUMMARY: The Commander, First Coast Guard District, has issued a temporary deviation from the regulation governing the operation of the Southport SR27 Bridge across Townsend Gut, mile 0.7, between Boothbay Harbor and Southport, Maine. The bridge owner, Maine Department of Transportation will be performing electrical repairs at the bridge. This deviation allows the bridge to remain in the closed position for four hours to facilitate scheduled bridge maintenance.

DATES: This deviation is effective between 8 a.m. and 12 p.m. on August 21, 2013 and August 22, 2013.

ADDRESSES: Documents mentioned in this preamble as being available in the docket are part of docket USCG-2013-0719 and are available online at www.regulations.gov, inserting USCG-2013-0719 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. John McDonald, Project Officer, First Coast Guard District, telephone (617) 223-8364, john.w.mcdonald@uscg.mil. If you have questions on viewing the docket, call Barbara Hairston, Program Manager, Docket Operations, telephone 202-366-9826.

SUPPLEMENTARY INFORMATION: The Southport SR27 Bridge, across Townsend Gut, mile 0.7, between Boothbay Harbor and Southport, Maine, has a vertical clearance in the closed position of 10 feet above mean high water and 19 feet above mean low water. The bridge operating regulations are listed at 33 CFR 117.537.

The waterway is transited by recreational and commercial fishing boats. There is an alternate route for navigation around Southport.

The bridge owner, Maine Department of Transportation, requested a temporary deviation from the normal operating schedule to facilitate deck repairs at the bridge.

Under this temporary deviation the Southport SR27 Bridge may remain in the closed position between 8 a.m. and 12 p.m. on August 21, 2013, with a rain date of August 22, 2013.

In accordance with 33 CFR 117.35(e), the bridge must return to its regular operating schedule immediately at the end of the designated time period. This deviation from the operating regulations is authorized under 33 CFR 117.35.

Dated: July 30, 2013.
Gary Kassof,
Bridge Program Manager, First Coast Guard District.

[FR Doc. 2013-19349 Filed 8-8-13; 8:45 am]

BILLING CODE 9110-04-P